DEPARTMENT OF EDUCATION

Application to Pilot; Federal Student Aid's Next Generation Financial Services Environment—Payment Vehicle Account Program Pilot

AGENCY: Federal Student Aid, Department of Education.

ACTION: Notice; amendment.

SUMMARY: On October 17, 2018, we published in the Federal Register a notice inviting applications from parties to implement a Pilot of a Payment Vehicle Account Program. This notice amends the deadline for transmittal of applications, the dates of the in-person presentations for applicants selected to present and discussion session, and the intended award date.

DATES:

Deadline for Transmittal of Applications: November 30, 2018.

In-Person Presentations for Applications selected to Present (45 minutes) and Discussion Session (45 minutes): December 18, 2018 to December 20, 2018.

Intended Award Date: On or before December 31, 2018.

FOR FURTHER INFORMATION CONTACT: Please email FSAPaymentVehicle@ed.gov. You may also contact Dr. Charles Patterson, Project Advisor at (202) 377-4133, or Emily Malone, Project Advisor at (202) 377-4624.

If you use a telecommunications device for the deaf (TDD) or a text telephone (TTY), call the Federal Relay Service, toll free, at 1-800-877-8339.

SUPPLEMENTARY INFORMATION: On October 17, 2018, we published in the Federal Register a notice inviting applications from parties to implement a Pilot of a Payment Vehicle Account Program (83 FR 52427). This notice amends the deadline for transmittal of applications, the dates of the in-person presentations for applicants selected to present and discussion session, and the intended award date. All other information in the original notice remains the same.

Amendments

In FR Doc. 2018-22646, we make the following amendments:

(a) On page 52427 in the first column, under the heading DATES, after the words “Deadline for Transmittal of Applications:” We are removing the date “November 7, 2018” and replacing it with the date “November 30, 2018.”

(b) On page 52427 in the first column, under the heading DATES, after the words “In-Person Presentations for Applicants selected to Present (45 minutes) and Discussion Session (45 minutes):” We are removing the dates “November 21, 2018 to November 28, 2018” and replacing them with the dates “December 18, 2018 to December 20, 2018.”

(c) On page 52427 in the first column, under the heading DATES, after the words “Intended Award Date:” We are removing the date “December 5, 2018” and replacing it with “On or before December 31, 2018.”

(d) On page 52435 in the second column, under the heading Electronic Submission of Applications, we are revising the sentence following the first bullet point to read, “You must complete the electronic submission of your Application by 4:30 p.m., Eastern Time, on November 30, 2018.”

Program Authority: 34 CFR 668.164(d)(3); 20 U.S.C. 1018.

VII. Other Information

Accessible Format: Individuals with disabilities can obtain this document in an accessible format (e.g., braille, large print, audiotape, or compact disc) on request to the Project Advisors listed under FOR FURTHER INFORMATION CONTACT in this Notice.

Electronic Access to This Document: The official version of this document is the document published in the Federal Register. You may access the official edition of the Federal Register and the Code of Federal Regulations via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: October 30, 2018.
James F. Manning,
Acting Chief Operating Officer, Federal Student Aid.

[FR Doc. 2018-24049 Filed 11-1-18; 8:45 am]

BILLING CODE 4000-01-P